DEPARTMENT OF ENERGY

Energy Information Administration

Agency Information Collection Activities; Extension

AGENCY: U.S. Energy Information Administration (EIA), Department of Energy.

ACTION: Agency Information Collection Activities: Information Collection Extension; notice and request for comments.

SUMMARY: EIA, pursuant to the Paperwork Reduction Act of 1995, intends to extend without changes for three years with the Office of Management and Budget (OMB) Form EIA-111, Quarterly Electricity Imports and Exports Report. Form EIA-111 collects U.S. electricity import and export data for the purpose of measuring the flow of electricity into and out of the United States from Canada and Mexico.

DATES: Comments regarding this proposed information collection must be received on or before December 19, 2017. If you anticipate difficulty in submitting comments within that period, contact the person listed in ADDRESSES as soon as possible.

ADDRESSES: Written comments may be sent to Tosha Beckford, U.S. Energy Information Administration, EI-23, 1000 Independence Avenue SW., Washington, DC 20585 or by email to Electricity2018@eia.gov.

FOR FURTHER INFORMATION CONTACT: Requests for additional information or copies of the information collection instrument and instructions should be directed to Tosha Beckford at 202-287-6597 or by email at Tosha.Beckford@eia.gov. The draft form and instructions are available at https://www.eia.gov/survey/#eia-111.

SUPPLEMENTARY INFORMATION: Comments are invited on: (a) Whether the proposed collection of information is necessary for the proper performance of the functions of the agency, including whether the information shall have practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

This information collection request contains:

(1) OMB No.: 1905-0208;

(2) Information Collection Request Title: Quarterly Electricity Imports and Exports Report;

(3) Type of Request: Renewal;

(4) Purpose: Form EIA-111 collects U.S. electricity import and export data. The data are used to generate accurate estimates of the flow of electricity into and out of the United States. The import and export data are reported by U.S. purchasers, sellers, and transmitters of wholesale electricity, including persons authorized to export electric power from the United States to foreign countries, persons authorized by Presidential Permit to construct, operate, maintain, or connect electric power transmission lines that cross the U.S. international border, and U.S. Balancing Authorities that are interconnected with foreign Balancing Authorities. Such entities report monthly flows of electricity received or delivered across the border, the cost associated with the transactions, and actual and implemented interchange.

(5) Annual Estimated Number of Respondents: 176;

(6) Annual Estimated Number of Total Responses: 704;

(7) Annual Estimated Number of Burden Hours: 1056;

(8) Annual Estimated Reporting and Recordkeeping Cost Burden: The cost of the burden hours is estimated to be $77,785 (1,056 burden hours times $73.66 per hour). EIA estimates that there are no additional costs to respondents associated with the survey other than the costs associated with the burden hours.

Statutory Authority: Section 13(b) of the Federal Energy Administration Act of 1974, Pub. L. 93-275, codified as 15 U.S. C. 772(b) and the DOE Organization Act of 1977, P.L. 95-91, codified at 42 U.S.C. 7101 et seq.

Issued in Washington, DC, on August 28, 2017.
Nanda Srinivasan,
Director, Office of Survey Development and Statistical Integration, U. S. Energy Information Administration.

[FR Doc. 2017-22801 Filed 10-19-17; 8:45 am]

BILLING CODE 6450-01-P